DEPARTMENT OF ENERGY

Federal Energy Regulatory Commission

[Project No. 2301-022]

PPL Montana; Notice of Application Accepted for Filing, Soliciting Motions To Intervene and Protests, Ready for Environmental Analysis, and Soliciting Comments, Recommendations, Preliminary Terms and Conditons, and Preliminary Fishway Prescriptions

March 5, 2007.

Take notice that the following hydroelectric application has been filed with the Commission and is available for public inspection.

a. Type of Application: New Major License.

b. Project No.: P-2301-022.

c. Date filed: December 15, 2006.

d. Applicant: PPL Montana.

e. Name of Project: Mystic Lake Hydroelectric Project.

f. Location: The existing project is located on West Rosebud Creek in Stillwater and Carbon Counties, Montana. The project occupies about 674 acres of federal lands in the Custard National Forest managed by the U.S. Forest Service.

g. Filed Pursuant to: Federal Power Act 16 U.S.C. 791(a)-825(r).

h. Applicant Contact: Jon Jourdonnais, PPL Montana, 45 Basin Creek Road, Butte, MT 59701; Telephone (406) 533-3443; e-mail jhjourdonnais@pplweb.com. Additional information on this project is available on the applicant's Web site: http://www.mysticlakeproject.com

i. FERC Contact: Steve Hocking, Telephone (202) 502-8753; e-mail steve.hocking@ferc.gov. Additional information on Federal Energy Regulatory Commission (FERC) hydroelectric projects is available on FERC's Web site: http://www.ferc.gov/industries/hydropower.asp

j. Deadline for filing motions to intervene and protests, comments, recommendations, preliminary terms and conditions, and preliminary fishway prescriptions is 60 days from the issuance date of this notice; reply comments are due 105 days from the issuance date of this notice.

All documents (original and eight copies) should be filed with: Secretary, Federal Energy Regulatory Commission, 888 First Street, NE., Washington DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site http://www.ferc.gov under the “e-Filing” link.

k. This application has been accepted for filing and is ready for environmental analysis.

l. Project Description: The existing project consists of the following: (1) A 368-foot-long, 45-foot-high, concrete arch dam/spillway; (2) 42-inch high timber flashboards on top of the arch spillway; (3) a 145-foot-long, 15-foot-high concrete core and earthfill dike with 1-foot-high flashboards; (4) Mystic Lake with a storage capacity of 47,000 acre-feet and a surface area of 446.7 acres at its normal maximum surface elevation of 7,673.5 feet above msl; (5) a 33-foot-long, 7-foot-high, by 9-foot-wide concrete intake structure at the left abutment of the dike; (6) a conduit from the intake structure to the powerhouse consisting of a 1,005-foot-long rock tunnel, a 9,012-foot-long, 57-inch steel pipeline with an inverted siphon near the mid-point of the pipeline, a surge tank, and a 2,566-foot-long by 42 to 48-inch diameter steel penstock; (7) a 60-foot-wide by 85-foot-long concrete powerhouse with two turbine-generator units with a total installed capacity of 11.25 megawatts; (8) two concrete tunnels that extend from the powerhouse into West Rosebud Creek; (9) a re-regulation dam about one mile downstream from the Mystic Lake powerhouse consisting of a 19-foot-high, 420-foot-long earthfill dike with a concrete spillway and flashboards; (10) West Rosebud Lake with a storage capacity of 470 acre-feet and a surface area of 49 acres at its normal maximum surface elevation of 6,397.4 feet above msl; (11) two 5.3-mile-long, 50-kilovolt transmission lines; (12) a 9,363-foot-long distribution line from the powerhouse to the arch dam and a 2,068-foot-long distribution line from the powerhouse to the surge tank; (13) an operator village adjacent to the powerhouse with four homes and three maintenance buildings; and (14) appurtenant facilities.

PPL Montana currently operates the project in both base load and peaking modes depending on water availability, electric demands, and existing license constraints. Typically, from mid-May to mid-August, inflows exceed the project's hydraulic capacity and the project is operated as a base load plant, continuously generating at maximum capacity. During this time, flows above the project's hydraulic capacity are captured in Mystic Lake which is gradually raised about 15 to 20 feet per month until it exceeds the project's current minimum recreation elevation of 7,663.5 feet msl. In most years, Mystic Lake is maintained about ten feet higher than the minimum recreation elevation during July and August.

After Labor Day, PPL Montana begins to slowly draft Mystic Lake, reducing its elevation by an average of 8 to 9 feet per month, until the lake is at or near its lowest elevation of 6,512.0 feet msl by the end of March. Drafting the lake permits PPL Montana to release more water into West Rosebud Creek than otherwise would be available from inflows from August through March. During the fall and early winter, PPL Montana employs limited peaking to maximize generation during high use periods, generally from 8 a.m. to 4 p.m. daily. In general, flow changes caused by peaking do not extend further than the project's re-regulation dam which creates West Rosebud Lake located about one mile downstream of the powerhouse.

m. A copy of the application is available for review at the Commission in the Public Reference Room or may be viewed on the Commission's Web site at http://www.ferc.gov using the “e-Library” link. Enter the docket number excluding the last three digits in the docket number field to access the document. For assistance, contact FERC Online Support at FERCOnlineSupport@ferc.gov or toll-free at (866) 208-3676, or for TTY, (202) 502-8659. A copy is also available for inspection and reproduction at the address in item h above.

Register online at www.ferc.gov/esubscribenow.htm to be notified via e-mail of new filings and issuances related to this or other pending projects. For assistance, contact FERC Online Support.

n. Anyone may submit comments, a protect, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “COMMENTS,” “REPLY COMMENTS,” “RECOMMENDATIONS,” “PRELIMARY TERMS AND CONDITONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following Hydro Licensing Schedule. Revisions to the schedule may be made as appropriate.

Milestone | Target date
Interventions, recommendations, preliminary terms and conditions, and fishway prescriptions due | May 4, 2007.
Reply comments due | June 18, 2007.
FERC issues single EA (without a draft) | August 31, 2007.
Comments on EA due | October 1, 2007.
Modified terms and conditions due | November 30, 2007.
Ready for Commission decision | February 2008.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Philis J. Posey,
Acting Secretary.

[FR Doc. E7-4343 Filed 3-9-07; 8:45 am]

BILLING CODE 6717-01-P